DEPARTMENT OF LABOR

Employment and Training Administration

[TA-W-50,990]

Material Handling Associates, Greene, NY; Notice of Termination of Investigation

Pursuant to section 221 of the Trade Act of 1974, as amended, an investigation was initiated on February 26, 2003 in response to a petition filed on behalf of workers at Material Handling Associates, Greene, New York.

The petitioner has requested that the petition be withdrawn. Consequently, further investigation would serve no purpose and the investigation has been terminated.

Signed at Washington, DC, this 18th day of March, 2003.
Linda G. Poole,
Certifying Officer, Division of Trade Adjustment Assistance.

[FR Doc. 03-7894 Filed 4-1-03; 8:45 am]

BILLING CODE 4510-30-P